SMALL BUSINESS ADMINISTRATION

Advisory Committee on Veterans Business Affairs; Public Meeting

The U.S. Small Business Administration (SBA), pursuant to the Veterans Entrepreneurship and Small Business Development Act of 1999 (Pub. L. 106-50), will be hosting its first advisory committee meeting for Fiscal Year 2005, on Thursday, September 15, 2005, starting at 9 am until 5 pm. The meeting will be held at the U.S. Small Business Administration, 409 3rd Street SW., 5th Floor Conference Room, Washington, DC 20416 (next to the Lafayette Federal Credit Union). If you have any questions regarding this meeting, please contact Cheryl Clark, Program Liaison, Office of Veterans Business Development at (202) 205-6773.

Matthew K. Becker,
Committee Management Officer.

[FR Doc. 05-17582 Filed 9-2-05; 8:45 am]

BILLING CODE 8025-01-M